DEPARTMENT OF COMMERCE

Submission For OMB Review; Comment Request

DOC has submitted to the Office of Management and Budget (OMB) for clearance, the following proposal for an extension of a currently approved collection of information under the provisions of the Paperwork Reduction Act (44 U.S.C. chapter 35).

Agency: Bureau of Economic Analysis.

Title: (1) Survey of Ocean Freight Revenues and Expenses of United States Carriers (BE-30). (2) Survey of U.S. Airline Operators' Foreign Revenues and Expenses (BE-37).

Form Number(s): BE-30/BE-37.

Agency Approval Number: 0608-0011.

Type of Request: Extension of a currently approved collection.

Burden: 780 hours/368 hours.

Number of Respondents: 39/23.

Avg Hours Per Response: 5 hours/4 hours.

Needs and Uses: The Bureau of Economic Analysis is responsible for the computation and publication of the U.S. balance of payments accounts. The information collected in these surveys are an integral part of the “transportation” portion of the U.S. balance of payments accounts. The balance of payments accounts, which are published quarterly in the Bureau's monthly publication, the Survey of Current Business, are one of the major statistical products of BEA. The accounts provide a statistical summary of U.S. international transactions. They are used by government and private organizations for national and international policy formulation, and analytical studies. Without the information collected in these surveys, an integral component of the transportation account would be omitted. No other Government agency collects comprehensive quarterly data on U.S. ocean carriers' freight revenues and expenses or U.S. airline operators' foreign revenues and expenses.

These surveys request information from U.S. ocean and air carriers engaged in the international transportation of goods and/or passengers. Information is collected on a quarterly basis from U.S. ocean and air carriers with total annual covered revenues and total annual covered expenses, each over $500,000. U.S. ocean and air carriers with total annual covered revenues and expenses below $500,000 are exempt from reporting.

Frequency: Quarterly.

Respondent's Obligation: Mandatory.

Legal Authority: The International Investment and Trade in Services Act, 22 U.S.C. 3101-3108.

OMB Desk Officer: Paul Bugg, (202) 395-3093.

Copies of the above extension of a currently approved collection can be obtained by calling or writing Madeleine Clayton, DOC Forms Clearance Officer, (202) 482-3129, Department of Commerce, room 6086, 14th and Constitution Avenue, NW, Washington, DC 20230.

Written comments and recommendations in response to this extension of a currently approved collection should be sent within 30 days of publication of this notice to Paul Bugg, OMB Desk Officer, room 10102, New Executive Office Building, Washington, DC 20503.

Dated: December 29, 2000.
Madeleine Clayton,
DOC Forms Clearance Officer, Office of Chief Information Officer.

[FR Doc. 01-279 Filed 1-4-01; 8:45 am]

BILLING CODE 3510-06-U